DEPARTMENT OF THE INTERIOR

National Park Service

Appalachian National Scenic Trail—Notice of Realty Action

AGENCY: National Park Service, Interior.

ACTION: Notice of realty action.

SUMMARY: This notice announces a proposed exchange of federally owned lands for privately-owned lands both located in Botetourt County, Commonwealth of Virginia.

I. The following described interest in Federally-owned land was acquired by the National Park Service and has been determined to be suitable for disposal by exchange. The authority for this exchange is Section 5(b) of the Land and Water Conservation Fund Act Amendments in Public Law 90-401, approved July 15, 1968, and Section 7(f) of the National Trails System Act, Public Law 90-543, as amended.

The selected interest in Federal land is within the boundaries of the Appalachian National Scenic Trail. The land has been surveyed for cultural resources and endangered and threatened species. These reports are available upon request.

Fee ownership of the following Federally-owned property is to be exchanged: Tract 475-33 is a 4.54 acre portion of 49.00 acres acquired (475-28) by the United States of America by deed recorded in Book 549, Page 397, in the Clerk's Office of the Circuit Court of Botetourt County, Commonwealth of Virginia. The tract is partially located within a 100-foot wide Appalachian Electric Company utility easement. Conveyance of the land by the United States will be done by Quitclaim Deed and will include a provision that the conveyance will not affect any and all access to the remainder as conveyed to the United States of America by the aforesaid deed.

II. In exchange for the land described in Paragraph I above, the United States of America will acquire a 3.33-acre portion of a parcel of land currently owned by Marvin L. Harris, et ux., lying within the boundaries of the Appalachian National Scenic Trail. All right, title and interest in Tract 475-31 is to be conveyed to the United States. This land will be administered by the National Park Service as a part of the Appalachian National Scenic Trail upon completion of the exchange. This exchange of real property will provide permanent protection for the Appalachian Trail. The exchange will also provide additional property to the landowner whose current property line is just 75 feet from their house.

The land to be acquired by the United States of America is described as follows: Tract 475-31 is a 3.33-acre portion of 22.50 acres acquired by Marvin L. Harris, et ux., by deed from William E. Goad, et ux., recorded in Book 481, Page 448, in the Clerk's Office of the Circuit Court of Botetourt County, Commonwealth of Virginia. Conveyance of the fee simple title, will be done by a General Warranty Deed.

The value of the properties exchanged shall be determined by a current fair market value appraisal and if they are not approximately equal, the values shall be equalized by payment of cash as circumstances require.

Detailed information concerning this exchange including precise legal descriptions, Land Protection Plan and cultural reports, are available at the Appalachian Trail Land Acquisition Field Office, 1314 Edwin Miller Boulevard, P.O. Box 908, Martinsburg, West Virginia 25402.

For a period of 45 days from the date of this notice, interested parties may submit written comments to the above address. Adverse comments will be evaluated and this action may be modified or vacated accordingly. In the absence of any action to modify or vacate, this realty action will become the final determination of the Department of the Interior.

FOR FURTHER INFORMATION, CONTACT: Chief, Acquisition Division, National Park Service, Appalachian Trail Land Acquisition Field Office, P.O. Box 908, Martinsburg, WV 25402-0908, 304-263-4943.

Dated: May 18, 2001.
Pamela Underhill,
Park Manager, Appalachian National Scenic Trail.

[FR Doc. 01-14790 Filed 6-11-01; 8:45 am]

BILLING CODE 4510-70-P